OFFICE OF THE UNITED STATES TRADE REPRESENTATIVE

Generalized System of Preferences (GSP); Deadline for Submitting Public Comments on Modification of Duty-Free Treatment for Certain Products Imported From India.

AGENCY: Office of the United States Trade Representative (USTR).

ACTION: Notice of request for public comment

SUMMARY: This notice informs the public that the U.S. Government is considering whether to modify duty-free treatment accorded to certain imports from India under the U.S. Generalized System of Preferences (GSP). The review is being undertaken to determine whether India offers “equitable and reasonable market access for U.S. goods and services.” If the conclusion is negative, the U.S. government is prepared to take steps that would lead to withdrawal of existing benefits on some products imported from India. Some or all of the products listed in the Annex may be affected. This notice sets forth the deadline for submitting public comments. A decision on this matter is expected on or about April 1, 2001.

FOR FURTHER INFORMATION CONTACT: GSP Subcommittee, Office of the United States Trade Representative, 600 17th Street, NW., Room 518, Washington, DC 20508 (Tel. 202/395-6971). Public versions of all documents relating to this review are available for public inspection by appointment in the USTR public reading room between 9:30-12 a.m. and 1-4 p.m. (Tel. 202/395-6186).

SUPPLEMENTARY INFORMATION: The GSP program is authorized pursuant to Title V of the Trade Act of 1974, as amended (“the Trade Act”) (19 U.S.C. 2461 et seq.). The GSP program grants duty-free treatment to designated eligible articles that are imported from designated beneficiary developing countries. Once granted, GSP benefits may be withdrawn, suspended or limited by the President with respect to any article or with respect to any country. In determining whether to withdraw, suspend, or limit GSP benefits, the President must consider several factors, one of which is whether the country offers equitable and reasonable market access for U.S. goods and services (19 U.S.C. 2462(c)(4)). India is a beneficiary of the GSP program. In 1999, more than $1 billion in imports from India were granted duty-free treatment under the GSP program; through October 2000, more than $966 million in imports from India received duty-free treatment under GSP, an increase of over 13% over 1999.

On June 12, 1998, the American National Soda Ash Corporation (ANSAC) filed a petition in the 1998 GSP country review contending that the Government of India has failed to provide the United States equitable and reasonable access to India's soda ash market. ANSAC requested that India's benefits under the GSP program be withdrawn, suspended or limited. This petition was accepted for review and was the subject of public comment and hearings. The United States also raised these concerns with the Government of India over the course of two years without resolution. Accordingly, absent a substantial improvement in equitable and reasonable market access for U.S. goods and services in India, the TPSC may recommend that the President withdraw GSP benefits for India on some or all of the products identified in the Annex to this notice.

Opportunities for Public Comment and Inspection of Comments

The GSP Subcommittee of the TPSC invites comments in support of, or in opposition to, the withdrawal, suspension or limitation of duty-free treatment under the GSP program for certain products imported from India. The deadline for submissions is 5 p.m. on Friday, February 16, 2001.

Parties submitting comments must submit an original and 14 copies, in English, to the Chairman of the GSP Subcommittee, Trade Policy Staff Committee, 600 17th Street, NW., Room 518, Washington, DC 20508. Information and comments will be available for public inspection by appointment with the staff of the USTR public reading room, except for information submitted in confidence pursuant to 15 CFR 2007.7. If the document contains business confidential information, an original and 14 copies of a public version of the submission along with 15 copies of the confidential version must be also submitted. The business confidential version of the submission should be clearly marked “business confidential” at the top and bottom of each page of the document. A nonconfidential summary of the business confidential information must be included with the business confidential submission, along with a written explanation of why the business confidential material should be protected. The public version should also be clearly marked at the top and bottom of each and every page (either “public version” or “nonconfidential”). Submissions should comply with 15 CFR part 2007, including sections 2007.0, and 2007.1.

Jon Rosenbaum,
Assistant U.S. Trade Representative for Trade and Development.

Annex

The products under consideration in this Annex encompass all articles that are classified under the specified numerical subheadings in the Harmonized Tariff Schedule of the United States listed below.

2008.19.15

2008.19.25

2008.19.90

2008.30.37

2008.30.48

2008.30.60

2008.30.95

2008.91.00

2008.99.15

2008.99.20

2008.99.28

2008.99.35

2008.99.40

2008.99.45

2008.99.50

2008.99.61

2008.99.63

2008.99.65

2008.99.80

2008.99.90

2511.10.50

3907.10.00

3907.20.00

3907.40.00

3907.50.00

3907.91.40

3907.91.50

3917.10.10

3917.10.90

3917.21.00

3917.22.00

3917.23.00

3917.29.00

3917.31.00

3917.32.60

3917.33.00

3917.39.00

3917.40.00

3926.10.00

3926.20.90

3926.30.10

3926.40.00

3926.90.10

3926.90.15

3926.90.20

3926.90.25

3926.90.30

3926.90.33

3926.90.35

3926.90.40

3926.90.45

3926.90.50

3926.90.56

3926.90.57

3926.90.60

3926.90.70

3926.90.75

3926.90.83

3926.90.87

3926.90.98

4104.31.20

4203.10.20

4203.30.00

4203.40.30

5903.10.10

5903.10.20

5903.20.20

5903.90.10

5903.90.20

6307.90.60

6307.90.85

6307.90.99

7113.11.10

7113.11.20

7113.19.10

7113.19.30

7113.20.10

7113.20.30

7113.20.50

7202.11.10

7202.19.10

7202.19.50

7202.41.00

7202.49.50

7202.80.00

7202.99.10

7307.11.00

7307.19.30

7307.21.10

7307.22.10

7307.22.50

7307.23.00

7307.29.00

7307.91.10

7307.92.30

7307.92.90

7307.93.60

7307.93.90

7307.99.10

7307.99.30

7307.99.50

7308.10.00

7308.20.00

7308.30.10

7308.30.50

7308.40.00

7318.12.00

7318.13.00

7318.15.60

7318.15.80

7318.19.00

7318.21.00

7318.24.00

7318.29.00

7320.10.30

7320.10.90

7320.20.10

7320.20.50

7320.90.50

7323.91.50

7323.93.00

7323.94.00

7323.99.30

7323.99.70

7323.99.90

7325.91.00

7325.99.50

7326.19.00

7326.20.00

7326.90.60

7326.90.85

7606.11.30

7606.11.60

7606.12.30

7606.12.60

7606.91.30

7606.91.60

7606.92.30

7606.92.60

7609.00.00

7615.11.00

7615.19.10

7615.19.30

7615.19.50

7615.19.70

7615.19.90

7615.20.00

7616.10.10

7616.10.30

7616.10.50

7616.10.70

7616.10.90

7616.91.00

7616.99.50

8203.20.20

8203.20.60

8203.20.80

8203.40.30

8203.40.60

8204.11.00

8204.12.00

8204.20.00

8205.10.00

8205.20.30

8205.30.30

8205.30.60

8205.40.00

8205.51.30

8205.51.60

8205.51.75

8205.59.10

8205.59.45

8205.59.55

8205.59.70

8205.59.80

8205.60.00

8205.70.00

8207.13.00

8207.19.30

8207.19.60

8207.30.30

8207.30.60

8207.40.30

8207.40.60

8207.50.20

8207.50.40

8207.50.60

8207.50.80

8207.60.00

8207.70.30

8207.70.60

8207.80.30

8207.80.60

8207.90.15

8207.90.30

8207.90.45

8207.90.60

8207.90.75

8413.30.90

8413.91.10

8466.10.80

8466.20.10

8466.20.80

8466.30.10

8466.30.60

8466.30.80

8466.92.50

8466.93.30

8466.93.53

8466.93.75

8466.93.95

8466.94.65

8466.94.85

8483.10.10

8483.10.30

8483.20.40

8483.30.40

8483.40.50

8483.40.70

8483.40.80

8483.40.90

8483.50.40

8483.50.60

8483.50.90

8483.60.40

8483.90.10

8483.90.20

8483.90.50

8501.10.20

8501.10.40

8501.10.60

8501.20.20

8501.20.40

8501.20.50

8501.20.60

8501.31.20

8501.31.40

8501.31.50

8501.31.60

8501.31.80

8501.32.20

8501.32.60

8501.33.30

8501.33.40

8501.33.60

8501.34.30

8501.34.60

8501.40.20

8501.40.40

8501.40.50

8501.40.60

8501.51.20

8501.51.40

8501.51.50

8501.51.60

8501.52.40

8501.53.60

8501.53.80

8501.61.00

8501.62.00

8501.63.00

8501.64.00

8543.19.00

8543.20.00

8543.30.00

8543.40.00

8543.89.40

8543.89.60

8543.89.70

8543.89.80

8543.89.96

8543.90.15

8543.90.35

8543.90.68

8543.90.88

8544.11.00

8544.19.00

8544.20.00

8544.41.80

8544.49.80

8544.51.90

8544.59.20

8544.59.40

8544.60.20

8544.60.40

8544.60.60

8708.10.30

8708.10.60

8708.21.00

8708.29.10

8708.29.15

8708.29.20

8708.29.50

8708.31.50

8708.39.50

8708.40.10

8708.40.20

8708.50.50

8708.50.80

8708.60.50

8708.70.45

8708.80.30

8708.80.45

[FR Doc. 01-1645 Filed 1-16-01; 2:41 pm]

BILLING CODE 3190-01-U